DEPARTMENT OF HOMELAND SECURITY

U.S. Citizenship and Immigration Services

[CIS No. 2684-21; DHS Docket No. USCIS-2021-0004]

RIN 1615-ZB87

Identifying Barriers Across U.S. Citizenship and Immigration Services (USCIS) Benefits and Services; Request for Public Input

Correction

In Notice document 2021-07987 beginning on page 20398 in the issue of April 19, 2021, make the following correction:

On page 20398, in the first column, under DATES, in the second line “April 19, 2021” should read “May 19, 2021”.

[FR Doc. C1-2021-07987 Filed 4-23-21; 8:45 am]

BILLING CODE 1301-00-D